DEPARTMENT OF COMMERCE

International Trade Administration

[A-570-924]

Polyethylene Terephthalate Film, Sheet, and Strip From the People's Republic of China: Final Results of the 2009-2010 Antidumping Duty Administrative Review of the Antidumping Duty Order

AGENCY: Import Administration, International Trade Administration, Department of Commerce.

SUMMARY: On November 3, 2011, the Department of Commerce (“the Department”) published the preliminary results in the 2009-2010 antidumping duty administrative review of polyethylene terephthalate film, sheet, and strip (“PET film”) from the People's Republic of China (“PRC”).¹ The period of review (“POR”) is November 1, 2009, through October 31, 2010. We have determined that sales have been made below normal value (“NV”) by certain companies subject to this review. We invited interested parties to comment on our Preliminary Results. Based on our analysis of the comments received, we made changes to our margin calculations for Tianjin Wanhua Co., Ltd. (“Wanhua”) and Sichuan Dongfang Insulating Material Co., Ltd. (“Dongfang”) (collectively, “Respondents”). The final dumping margins for this review are listed in the “Final Results Margins” section below.

¹ See Polyethylene Terephthalate Film, Sheet, and Strip From the People's Republic of China: Preliminary Results of the 2009-2010 Antidumping Duty Administrative Review, 76 FR 68140 (November 3, 2011) (“Preliminary Results”).

DATES: Effective Date: March 12, 2012.

FOR FURTHER INFORMATION CONTACT: Thomas Martin and Jonathan Hill, AD/CVD Operations, Office 4, Import Administration, International Trade Administration, U.S. Department of Commerce, 14th Street and Constitution Avenue NW., Washington, DC 20230; telephone: (202) 482-3936, and (202) 482-3518, respectively.

Background

On November 3, 2011, the Department published its Preliminary Results in the antidumping duty administrative review of PET film from the People's Republic of China.² On November 28, 2011, DuPont Teijin Films, Mitsubishi Polyester Film, Inc., SKC, Inc., and Toray Plastics (America), Inc. (collectively, “Petitioners”), Wanhua, and Fuwei Films (Shandong) Co., Ltd. (“Fuwei Films”) submitted publicly available surrogate value (“SV”) data. On December 8, 2011, Petitioners ³, Wanhua, Fuwei Films and Dongfang submitted rebuttal comments regarding the November 28, 2011, submissions. We received case briefs from Petitioners, Wanhua, Fuwei Films and Shaoxing Xiangyu Green Packing Co., Ltd. (jointly “Wanhua et al”), Dongfang, and Bemis Company, Inc. (“Bemis”) on December 14, 2011, and rebuttal briefs on December 21, 2011. On January 12, 2012 the Department held a public hearing.

² See Preliminary Results.

³ The Department rejected the Petitioners' December 8, 2011, surrogate value rebuttal comments because it contained new surrogate value information. Petitioners removed the material and resubmitted the rebuttal comments on December 16, 2011.

Analysis of Comments Received

All issues raised in the case and rebuttal briefs filed by parties in this review are addressed in the Memorandum from Christian Marsh, Deputy Assistant Secretary for Antidumping and Countervailing Duty Operations, to Paul Piquado, Assistant Secretary for Import Administration, “Polyethylene Terephthalate Film, Sheet, and Strip from the People's Republic of China: Issues and Decision Memorandum for the Final Results of the 2009-2010 Administrative Review,” dated March 2, 2012 (“Issues and Decision Memorandum”), which is hereby adopted by this notice. A list of the issues that parties raised and to which we responded in the Issues and Decision Memorandum follows as an appendix to this notice. The Issues and Decision Memorandum is a public document and is on file electronically via Import Administration's Antidumping and Countervailing Duty Centralized Electronic Service System (“IA ACCESS”). Access to IA ACCESS is available in the Central Records Unit, Main Commerce Building, Room 7046. In addition, a complete version of the Issues and Decision Memorandum can be accessed directly on the Internet at http://www.trade.gov/ia. The paper copy and electronic versions of the Issues and Decision Memorandum are identical in content.

Period of Review

The POR is November 1, 2009, through October 31, 2010.

Scope of the Order

The products covered by the order are all gauges of raw, pre-treated, or primed PET film, whether extruded or co-extruded. Excluded are metalized films and other finished films that have had at least one of their surfaces modified by the application of a performance-enhancing resinous or inorganic layer more than 0.00001 inches thick. Also excluded is roller transport cleaning film which has at least one of its surfaces modified by application of 0.5 micrometers of SBR latex. Tracing and drafting film is also excluded. PET film is classifiable under subheading 3920.62.00.90 of the HTSUS. While HTSUS subheadings are provided for convenience and customs purposes, our written description of the scope of the order is dispositive.

Changes Since the Preliminary Results

Based on an analysis of the comments received, the Department has made certain changes in the margin calculation. For the final results, the Department has made the following changes:

• We revised the calculated surrogate overhead, selling, general and administrative expenses, and profit applicable to Respondents using information from the financial statements of JBF Industries Limited, a manufacturer in India of merchandise comparable to the subject merchandise.

• We revised the surrogate valuation of PET scrap sold, applying Indian HTS subheading 3907.60.

Final Results Margin

We determine the weighted-average dumping margins for the period November 1, 2009, through October 31, 2010, to be:

Polyethylene Terephthalate Film, Sheet, and Strip From the PRC
Exporter | Weighted- average margin (percentage)
Tianjin Wanhua Co., Ltd | 8.42
Sichuan Dongfang Insulating Material Co., Ltd | 10.87
Fuwei Films (Shandong) Co., Ltd | 8.48
Shaoxing Xiangyu Green Packing Co., Ltd | 8.48
PRC-wide Entity ⁴ | 76.72

Assessment Rates

Pursuant to section 751(a)(2)(A) of the Tariff Act of 1930, as amended (“the Act”) and 19 CFR 351.212(b), the Department will determine, and U.S. Customs and Border Protection (“CBP”) shall assess, antidumping duties on all appropriate entries of subject merchandise in accordance with the final results of this review. For assessment purposes, we calculated importer (or customer)-specific assessment rates for merchandise subject to this review. Where appropriate, we calculated an ad valorem rate for each importer (or customer) by dividing the total dumping margins for reviewed sales to that party by the total entered values associated with those transactions. For duty-assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise. Where an importer (or customer)-specific assessment rate is de minimis (i.e., less than 0.50 percent), the Department will instruct CBP to assess that importer (or customer's) entries of subject merchandise without regard to antidumping duties, in accordance with 19 CFR 351.106(c)(2). The Department intends to issue assessment instructions to CBP 15 days after the date of publication of these final results of review.

⁴ Shanghai Xishu Electric Material Co., Ltd. and Shanghai Uchem Co., Ltd. are part of the PRC-wide entity.

Cash Deposit Requirements

The following cash deposit requirements will be effective upon publication of the final results of this administrative review for all shipments of the subject merchandise entered, or withdrawn from warehouse, for consumption on or after the publication date, as provided for by section 751(a)(2)(C) of the Act: (1) For Wanhua, Dongfang, Fuwei Films and Shaoxing Xiangyu Green Packing Co., Ltd. (“Green Packing”), the cash deposit rate will be the rate identified in the Final Results Margin section, as listed above; (2) for previously investigated or reviewed PRC and non-PRC exporters not listed above that have separate rates, the cash deposit rate will continue to be the exporter-specific rate published for the most recent period; (3) for all PRC exporters of subject merchandise which have not been found to be entitled to a separate rate, the cash deposit rate will continue to be the PRC-wide rate of 76.72 percent; ⁵ and (4) for all non-PRC exporters of subject merchandise which have not received their own rate, the cash deposit rate will be the rate applicable to the PRC exporter that supplied that non-PRC exporter. The deposit requirements shall remain in effect until further notice.

⁵ This rate was established in the final results of the original investigation. See Polyethylene Terephthalate Film, Sheet, and Strip from the People's Republic of China: Final Determination of Sales at Less Than Fair Value, 73 FR 55039 (September 24, 2008).

Notification to Importers

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification to Interested Parties

This notice also serves as a reminder to parties subject to administrative protective orders (“APOs”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Disclosure

We intend to disclose the calculations performed within five days of the date of publication of this notice to parties in this proceeding in accordance with 19 CFR 351.224(b).

We are issuing and publishing the final results and notice in accordance with sections 751(a)(1) and 777(i)(1) of the Act.

Dated: March 2, 2012.
Ronald K. Lorentzen,
Acting Assistant Secretary for Import Administration.

Appendix I

Issues for the Final Results

Surrogate Country Selection and Surrogate Financial Ratios

Issue 1: Whether the Department should have selected India or Thailand as the Surrogate Country.

Issue 2: Whether the Department should have selected the financial statement of JBF Industries Ltd. to calculate financial ratios.

Issue 3: Whether the Department should have rejected financial statements submitted in its surrogate value rebuttal comments.

Surrogate Values

Issue 4: Whether the Department should have selected the six-digit subheading 3907.60 to value the Respondents' PET chips.

Issue 5: Whether the Department should require company certifications for surrogate value submissions.

Issue 6: Whether the Department should have selected HTS 3915.10 to value Respondents' scrap offset.

Respondent Selection

Issue 7: Whether the Department improperly failed to select Fuwei Films and Green Packing as mandatory respondents, and improperly failed to consider the voluntary responses of Fuwei Films and Green Packing.

Separate Rate

Issue 8: Whether the separate rate assigned to Fuwei Films and Green Packing in the Preliminary Results inaccurately overstates the antidumping margin that should be applied to these companies.

Reclaimed PET Chips

Issue 9: Whether the Department should re-calculate the consumption of raw material inputs for Wanhua and Dongfang with respect to reclaimed PET chips.

Wanhua

Issue 10: Whether the Department should have calculated the consumption of material inputs of Wanhua based on an application of adverse facts available.

Dongfang

Issue 11: Whether the Department should have adjusted Dongfang's reported electricity and water FOPs.

Zeroing

Issue 12: Whether the Department should engage in the practice of zeroing.

[FR Doc. 2012-5936 Filed 3-9-12; 8:45 am]

BILLING CODE P